ENVIRONMENTAL PROTECTION AGENCY

[EPA-HQ-OW-2015-0056; FRL-9955-02-OW]

National Advisory Council for Environmental Policy and Technology: Assumable Waters Subcommittee; Notice of Public Meetings

AGENCY: Environmental Protection Agency (EPA).

ACTION: Notice of federal advisory subcommittee meetings.

SUMMARY: Consistent with the Federal Advisory Committee Act, Public Law 92463, EPA is giving notice of an upcoming public meeting of the Assumable Waters Subcommittee convened under the National Advisory Council for Environmental Policy and Technology (NACEPT). The Assumable Waters Subcommittee will provide advice and recommendations as to how the EPA can best clarify assumable waters for dredge and fill permit programs pursuant to Clean Water Act section 404(g)(1). The EPA is undertaking this effort to support states and tribes that wish to assume the program. Similar to the parent NACEPT, the subcommittee represents a diversity of interests from academia, industry, non-governmental organizations, and local, State, and tribal governments.

Meeting agendas and materials will be posted at www.epa.gov/cwa-404/assumable-waters-sub-committee.

DATES: The Assumable Waters Subcommittee will hold a public meeting on:

• December 9th, from 12:30 p.m. to 3:30 p.m. EDT, at this Web site: https://cbuilding.zoom.us/j/5305689032.

ADDRESSES: • This is virtual meeting which can be accessed at this Web site: https://cbuilding.zoom.us/j/5305689032 and via phone: (408) 638-0968 (US Toll) or (646) 558-8656 (US Toll). The meeting ID is 530 568 9032

FOR FURTHER INFORMATION CONTACT: Jacob B. Strickler, Acting Designated Federal Officer, via email at: assumablewaters@epa.gov, by phone: (202) 564-4692, or via postal service at: U.S. Environmental Protection Agency (MC-2388A), 1200 Pennsylvania Avenue NW., Washington, DC 20460.

SUPPLEMENTARY INFORMATION: Requests to make oral comments or to provide written comments to the Assumable Waters Subcommittee should be sent to Jacob B. Strickler via email at: assumablewaters@epa.gov by December 1st, 2016. The meetings are open to the public, with limited phone lines available on a first-come, first-served basis. Members of the public wishing to attend should contact Jacob B. Strickler via email at: assumablewaters@epa.gov or by phone at: (202) 564-4692 by December 5th, 2016, so we can ensure adequate phone lines are available. On December 9th, 2016, public comments will heard beginning at 3:00 p.m. until 3:30 p.m. EDT or until all comments have been heard.

Meeting Access: The agency will strive to reasonably accommodate individuals with disabilities. Information regarding accessibility and/or accommodations for individuals with disabilities should be directed to Jacob B. Strickler at the email address or phone number listed above. To ensure adequate time for processing, please make requests for accommodations at least 8 days prior to the meeting.

Dated: November 1, 2016.
Benita Best-Wong,
Director, Office of Wetlands, Oceans, and Watersheds.

[FR Doc. 2016-26967 Filed 11-7-16; 8:45 am]

BILLING CODE 6560-50-P